DEPARTMENT OF STATE

[Public Notice: 12329]

Exchange Visitor Program

ACTION: Notice of an arrangement through a Memorandum of Understanding and waiver of certain regulatory requirements.

SUMMARY: In accordance with the requirements of the Exchange Visitor Program regulations, the Assistant Secretary for Educational and Cultural Affairs (ECA), U.S. Department of State, has waived certain regulatory provisions to establish an exchange of German principals to secondary schools overseen and financed by the government of the Federal Republic of Germany within the United States.

DATES: This action was effective on November 15, 2023.

FOR FURTHER INFORMATION CONTACT: Rebecca Pasini, Deputy Assistant Secretary for Private Sector Exchange at 2200 C Street NW, SA-5, 5th Floor, Washington, DC 20522 or via email at JExchanges@state.gov or by telephone at (202) 826-4364.

SUPPLEMENTARY INFORMATION: The arrangement between the United States and the Federal Republic of Germany, establishing an exchange of German principals, fosters long-term international cooperation with U.S. communities across the United States. German exchange principals, through their leadership, promote an intercultural environment and strong bonds that last through their students' years at school, university, and beyond. The principals are instrumental in creating a global network of well-connected German and American alumni.

This exchange has been established in accordance with the existing Exchange Visitor Program regulations (22 CFR part 62), including the regulations applying to the Specialist category (22 CFR 62.26). These exchange visitors are experts in a field with specialized knowledge or skills. Program participants are required to be German citizens, hold a valid German passport, and have teaching certification for the secondary level or an advanced degree equivalent to a Master's degree in school administration or a similar field. Program participants are selected by the Federal German Foreign Office and its subordinate authority, the Central Agency for Schools Abroad. Participants are placed as principals in German schools in the United States that are recognized and overseen by the Federal Foreign Office.

Consistent with the arrangement, the Assistant Secretary for Educational and Cultural Affairs waives certain provisions set forth in 22 CFR 62.26. Regulations at 22 CFR 62.26(i) provide that specialists shall be authorized to participate in the Exchange Visitor Program for the length of time necessary to complete the program, which shall not exceed one year. Regulations at 22 CFR 62.26(d)(3) establish that a foreign national is eligible to participate in an exchange visitor program as a specialist if that individual does not fill a permanent or long-term position of employment while in the United States. Through the arrangement with the Federal Republic of Germany, the United States supports the purposes of the Fulbright-Hayes Act by facilitating administrative support for German schools in the United States and recognizing that international schools are an important way to allow the possibility of young people to be educated in a unique multicultural environment. The arrangement allows German principals to promote intercultural exchange throughout their program, which is permitted to be three years, subject to the terms of the principal's visa.

Subject to the Immigration and Nationality Act (INA), participants may be eligible for one-time repeat participation in the program upon the exchange visitor's valid application and after meeting any other applicable requirements. Although the principal position filled by the participant may remain a long-term one for the school, varying individual principals, including program participants, may serve in that role. Accordingly, the Department waives subsections (d)(3) and (i) of 22 CFR 62.26 with respect to this program.

Lee A. Satterfield,
Assistant Secretary, Bureau of Educational and Cultural Affairs, Department of State.

[FR Doc. 2024-03346 Filed 2-16-24; 8:45 am]

BILLING CODE 4710-05-P